DEPARTMENT OF STATE

[Public Notice 8599]

Application for Employment; Correction

AGENCY: Department of State.

ACTION: Notice; Correction.

SUMMARY: The Department of State published a document in the Federal Register of January 13, 2014 concerning the Information Collection “Application for Employment”. The address for the public to make comments via the web was omitted.

FOR FURTHER INFORMATION CONTACT: Direct requests for additional information regarding the collection listed in this notice, including requests for copies of the proposed collection instrument and supporting documents, to Diana M. Ossa, Bureau of Human Resources, Recruitment Division, Student Programs, U.S. Department of State, Washington, DC 20522, who may be reached on (202) 261-8931 or at ossadm@state.gov.

Correction

In the Federal Register of January 13, 2014, in FR Volume number 79, page number 2239, in the first paragraph correct the title “60-Day Notice of Proposed Information Collection: Form DS-1950, Department of State Application for Employment, OMB Control Number 1405-0139” to read: “60-Day Notice of Proposed Information Collection: Application for Employment.”

On page 2240, third paragraph, under the header ADDRESSES:, insert a bullet point above the “Email:” bullet point with the following text:

• Web: Persons with access to the Internet may use the Federal Docket Management System (FDMS) to comment on this notice by going to www.Regulations.gov. You can search for the document by entering “Public Notice 8591” in the Search bar. If necessary, use the Narrow by Agency filter option on the Results page.

Dated: January 13, 2014.
Janet Freer,
Director, Office of Directives Management.

[FR Doc. 2014-00919 Filed 1-17-14; 8:45 am]

BILLING CODE 4710-15-P